DEPARTMENT OF AGRICULTURE

Food and Nutrition Service

Agency Information Collection Activities: Proposed Collection; Comment Request Forms FNS-735, FNS Regional Office-School Food Authority Agreement and FNS-736, State Agency-School Food Authority Agreement

AGENCY: Food and Nutrition Service, USDA.

ACTION: Notice.

SUMMARY: In accordance with the Paperwork Reduction Act of 1995, this Notice invites the public to comment on the Food and Nutrition Service (FNS) use of Forms FNS-735, FNS Regional Office-School Food Authority Agreement and FNS-736, State Agency-School Food Authority Agreement. The Agreements set out the requirements for administering the Child Nutrition Programs and the Food Distribution Program (Child Nutrition Program related portions only) of the U.S. Department of Agriculture (USDA).

DATES: To be assured of consideration, comments must be received by December 2, 2002.

ADDRESSES: Send comments and requests for copies of this information collection to: Mr. Terry Hallberg, Chief, Program Analysis and Monitoring Branch, Child Nutrition Division, Food and Nutrition Service, U.S. Department of Agriculture, 3101 Park Center Drive, Room 636, Alexandria, VA 22302.

Comments are invited on: (a) Whether the proposed collection of information is necessary for the proper performance of the functions of the agency; (b) the accuracy of the agency's estimate of the burden of the proposed collection of information; (c) ways to enhance the quality, utility and clarity of the information to be collected; and (d) ways to minimize the burden of the collection of information on respondents, including through the use of automated collection techniques or other forms of information technology. All responses to this notice will be summarized and included in the request for OMB approval. All comments will also become a matter of public record.

FOR FURTHER INFORMATION CONTACT: Terry Hallberg, (703) 305-2590.

SUPPLEMENTARY INFORMATION: Titles: Forms FNS-735, FNS Regional Office-School Food Authority Agreement and FNS-736, State Agency-School Food Authority Agreement.

OMB Number: New.

Expiration Date: Not yet assigned.

Type of Request: New.

Abstract: The Forms FNS-735, FNS Regional Office-School Food Authority Agreement and FNS-736, State Agency-School Food Authority Agreement are used to set out the requirements for administering the Child Nutrition Programs and the Food Distribution Program (Child Nutrition Program related portions only) of the U.S. Department of Agriculture (USDA).

On October 31, 1998, President Clinton signed the Child Nutrition Reauthorization Act of 1998 (Pub. L. 105-336). Section 102(d) amended section 9(i) of the NSLA (42 U.S.C. 1758(i)) by establishing two requirements with respect to school food authorities (SFA) which administer any combination of the Child Nutrition Programs under the same State administering agency (SA). First the SA must use a single State/local agreement for all programs operated by the SFA, including an alternate SFA under that SA. This also means that multiple programs operated under an alternate SA must be combined into a single agreement. A SA must use a common reimbursement form to claim meals under all of the programs. Previously, single agreements and common claim forms were permitted at SA option for SFAs administering multiple Child Nutrition Programs under a single SA.

Estimate of Burden: Public reporting burden for this collection of information is estimated to average .25 hours per response.

Respondents: The respondents are State agencies, FNS Regional Offices, and School Food Authorities participating in the National School Lunch Program (NSLP), School Breakfast Program (SBP), Summer Food Service Program (SFSP), Child and Adult Care Food Program (CACFP), School Milk Program (SMP), and Food Distribution Program (FDP—child nutrition program related portions only).

Estimated Number of Respondents:

Form FNS-735, FNS Regional Office-School Food Authority Agreement: 5.

Form FNS-736, State Agency-School Food Authority Agreement: 20,629.

Estimated Number of Responses per Respondent:

Form FNS-735, FNS Regional Office-School Food Authority Agreement: 1 response.

Form FNS-736, State Agency-School Food Authority Agreement: 1 response.

Estimated Total Annual Burden on Respondents:

Form FNS-735, FNS Regional Office-School Food Authority Agreement: 1.25 burden hours.

Form FNS-736, State Agency-School Food Authority Agreement: 5,157 burden hours.

Dated: September 25, 2002.
Roberto Salazar,
Administrator, Food and Nutrition Service.

[FR Doc. 02-25148 Filed 10-2-02; 8:45 am]

BILLING CODE 3410-30-P